NUCLEAR REGULATORY COMMISSION

Notice of Public Meeting; Pre-application Early Site Permit Meetings for the Grand Gulf Site

AGENCY: Nuclear Regulatory Commission.

ACTION: Notice of public meetings in Port Gibson, Mississippi.

SUMMARY: The U. S. Nuclear Regulatory Commission (NRC) will hold facilitated meetings on November 14, 2002, to provide information to the public on the NRC Early Site Permit review process, as well as the opportunities for public involvement in that process for the Grand Gulf site. Entergy Operations Incorporated (Entergy) is expected to file an early site permit in June 2003 for a new reactor or reactors at the Grand Gulf site. The meetings will also include a discussion of the perspectives, roles, and responsibilities of the NRC in regard to the Grand Gulf site.

DATE/TIME: The meetings will be held on Thursday, November 14, 2002, beginning with the first meeting from 2 p.m. through 4:30 p.m. followed by a later meeting from 7 p.m. through 9:30 p.m. Each meeting will be preceded by an “open house” one hour prior to the meeting to allow for individual discussions with staff members.

LOCATION: Port Gibson City Hall, 1005 College Avenue, Port Gibson, Mississippi.

FOR FURTHER INFORMATION CONTACT: Francis X. Cameron, Special Council for Public Liaison, Office of General Council, U.S. Nuclear Regulatory Commission, Washington, D.C. 20555-0001, or by telephone: (301) 415-1642 or e-mail: fxc@nrc.gov. Mr. Cameron will facilitate the meeting.

SUPPLEMENTARY INFORMATION: Additional information can be obtained from the Web site (http://nrcweb.nrc.gov:300/reactors/new-licensing/license-reviews/esp.html), or by contacting Mr. Ronaldo Jenkins at (301) 415-2985, or via e-mail at rvj@nrc.gov.

Dated at Rockville, Maryland this twenty-fourth day of October 2002.
For the Nuclear Regulatory Commission.
James E. Lyons,
Director, New Reactor Licensing Project Office, Office of Nuclear Reactor Regulation.

[FR Doc. 02-27588 Filed 10-29-02; 8:45 am]

BILLING CODE 7590-01-P